Title 3—

The President

Executive Order 14084 of September 30, 2022

Promoting the Arts, the Humanities, and Museum and Library Services

By the authority vested in me as President by the Constitution and the laws of the United States of America, it is hereby ordered as follows:

Section 1. Policy. The arts, the humanities, and museum and library services are essential to the well-being, health, vitality, and democracy of our Nation. They are the soul of America, reflecting our multicultural and democratic experience. They further help us strive to be the more perfect Union to which generation after generation of Americans have aspired. They inspire us; provide livelihoods; sustain, anchor, and bring cohesion within diverse communities across our Nation; stimulate creativity and innovation; help us understand and communicate our values as a people; compel us to wrestle with our history and enable us to imagine our future; invigorate and strengthen our democracy; and point the way toward progress.

It is the policy of my Administration to advance the cultural vitality of the United States by promoting the arts, the humanities, and museum and library services. To that end, my Administration will advance equity, accessibility, and opportunities for all Americans, particularly in underserved communities as defined in Executive Order 13985 of January 20, 2021 (Advancing Racial Equity and Support for Underserved Communities Through the Federal Government), so that they may realize their full potential through the arts, the humanities, and access to museum and library services. Additionally, we will strengthen America's creative and cultural economy, including by enhancing and expanding opportunities for artists, humanities scholars, students, educators, and cultural heritage practitioners, as well as the museums, libraries, archives, historic sites, colleges and universities, and other institutions that support their work.

Under my Administration, the arts, the humanities, and museum and library services will be integrated into strategies, policies, and programs that advance the economic development, well-being, and resilience of all communities, especially those that have historically been underserved. The arts, the humanities, and museum and library services will be promoted and expanded to strengthen public, physical, and mental health; wellness; and healing, including within military and veteran communities. We will enhance access to high-quality arts and humanities education and programming with the aim of enabling every child in America to obtain the broad creative skills and enrichment vital to succeed. My Administration's efforts to tackle the climate crisis will be bolstered through Federal and societal support for and advancement of the arts, the humanities, and museum and library services. We will also safeguard and promote the artistic and cultural heritage of the United States and its people domestically and internationally. Finally, my Administration will strengthen our Nation's democracy, increase civic engagement and public service, bolster social cohesion, and advance the cause of equity and accessibility by lifting up more—and more diverse—voices and experiences through Federal support for the arts, the humanities, and museum and library services.

Sec. 2. The President's Committee on the Arts and the Humanities. (a) There is established within the Institute of Museum and Library Services (IMLS) the President's Committee on the Arts and the Humanities (Committee) to inform and support the national engagement with Americans necessary to advance the arts, the humanities, and museum and library services.

(b) The Committee shall be structured as follows:

(i) The Committee shall be composed of the Chairperson of the National Endowment for the Arts (NEA), the Chairperson of the National Endowment for the Humanities (NEH), the Director of the IMLS, and no more than 25 additional persons who are not full-time officers or employees of the Federal Government (non-Federal members) who shall be appointed by the President. The non-Federal members:

(A) shall be selected from among private individuals and State, local, and Tribal officials;

(B) shall have a diversity of backgrounds, experiences, and areas of expertise; and

(C) shall have a demonstrated interest in and commitment to support for the arts, the humanities, and museum and library services.

(ii) The Librarian of Congress, the Secretary of the Smithsonian Institution, the Director of the National Gallery of Art, and the Chairman of the Board of Trustees of the John F. Kennedy Center for the Performing Arts shall be invited to serve as additional, non-voting members of the Committee.

(iii) The President shall designate a Chair or two Co-Chairs from among the non-Federal members of the Committee.

(c) The Committee shall be solely advisory and shall provide recommendations to the President and the heads of the NEA, NEH, and IMLS on:

(i) advancing the policy objectives set forth in section 1 of this order, including with respect to community well-being; economic development and mobility; public, physical, and mental health; education; resilience and adaptation, as well as combatting climate change; civic and democratic engagement; and support for the artistic and cultural heritage of the United States;

(ii) promoting philanthropic and private sector engagement with and support for the arts, the humanities, and museum and library services to advance the policy objectives set forth in section 1 of this order;

(iii) enhancing the effectiveness of Federal support for the arts, the humanities, and museum and library services to advance the policy objectives set forth in section 1 of this order; and

(iv) catalyzing the engagement of the Nation's artists, humanities scholars, cultural heritage practitioners, and leaders in the arts, the humanities, and museum and library services, including with respect to:

(A) engagement in significant cultural events; and

(B) promoting the recognition of excellence in the arts, the humanities, and museum and library services, and their relevance to our Nation's social and economic well-being.

(d) The Committee's recommendations pursuant to subsection (c) of this section shall be conveyed in accordance with subsection (g) of this section.

(e) The Committee shall be administered as follows:

(i) The IMLS shall provide funding and administrative support for the Committee, including facilities, staff, equipment, and other support services, to the extent permitted by law and subject to the availability of appropriations. Private funds accepted under the IMLS's gift authority may be used to pay expenses of the Committee, as appropriate and consistent with applicable law.

(ii) The Director of the IMLS may designate an Executive Director to coordinate the work of the Committee. The Executive Director shall report to the Director of the IMLS and shall meet with all of the heads of the NEA, NEH, and IMLS on a quarterly basis.

(iii) Members of the Committee shall serve without compensation for their work on the Committee, but shall be allowed travel expenses, including per diem in lieu of subsistence, as authorized by law for persons serving intermittently in the Government service (5 U.S.C. 5701-5707).

(f) The Committee shall meet twice a year.

(g) On an annual basis, and at other times as appropriate, the Chair or Co-Chairs of the Committee shall report to the President through the heads of the NEA, NEH, and IMLS on the Committee's progress in carrying out its mission, any recommendations it has, and its plans for the coming year.

(h) Insofar as the Federal Advisory Committee Act, as amended (5 U.S.C. App.), may apply to the Committee, any functions of the President under that Act, except that of reporting to the Congress, shall be performed by the Director of the IMLS, in consultation with the heads of the NEA and NEH, and in accordance with guidelines issued by the Administrator of General Services.

(i) The Committee shall terminate 2 years from the date of this order, unless extended by the President.

Sec. 3. Interagency Cooperation to Advance the Arts and Humanities. (a) The heads of executive departments and agencies and White House policy councils, including those listed below, or their designees, who must be senior officials, shall advise, coordinate with, and consider undertaking joint projects and initiatives with the heads of the NEA, NEH, and IMLS, as appropriate and consistent with applicable law, to advance the policy objectives set forth in section 1 of this order:

(i) the Department of State;

(ii) the Department of the Treasury;

(iii) the Department of Defense;

(iv) the Department of Justice;

(v) the Department of the Interior;

(vi) the Department of Agriculture;

(vii) the Department of Commerce;

(viii) the Department of Labor;

(ix) the Department of Health and Human Services;

(x) the Department of Housing and Urban Development;

(xi) the Department of Transportation;

(xii) the Department of Energy;

(xiii) the Department of Education;

(xiv) the Department of Veterans Affairs;

(xv) the Office of Management and Budget;

(xvi) the Small Business Administration;

(xvii) the General Services Administration;

(xviii) the Corporation for National and Community Service;

(xix) the National Institutes of Health;

(xx) the National Science Foundation;

(xxi) the Domestic Policy Council;

(xxii) the National Economic Council;

(xxiii) the Gender Policy Council;

(xxiv) the White House Climate Policy Office; and

(xxv) the Office of Science and Technology Policy.

(b) The heads of agencies described in section 3502(5) of title 44, United States Code, are encouraged to comply with the provisions of this section.

(c) The heads of the NEA, NEH, and IMLS shall consider joint initiatives that would further the policy objectives set forth in section 1 of this order, and then may carry out those initiatives to the extent permitted by law.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

September 30, 2022.

[FR Doc. 2022-21839

Filed 10-4-22; 11:15 am]

Billing code 3395-F3-P